DEPARTMENT OF DEFENSE

Department of the Navy

Meeting of the Chief of Naval Operations Executive Panel

AGENCY: Department of the Navy, DoD.

ACTION: Notice of Partially Closed Meeting.

SUMMARY: The Chief of Naval Operations (CNO) Executive Panel will report on the findings and recommendations of the Latin America and the Caribbean, 2010 Subcommittee study. The meeting will consist of open and closed discussions. Closed discussions will include national and naval intelligence analysis, as well as consider major challenges which the United States will face over the next five years and implications of the regional security environment on the prospective role of U.S. naval forces. Open discussions will include the political, social and economic environment of Latin America and the Caribbean, focusing on crime (particularly narcotics trafficking), regional ethnic conflicts, and analysis of regional democratic processes. The discussion will concentrate on Central and South America and the Caribbean; considering issues also effecting Mexico as appropriate.

DATES: The meeting will be held on December 14, 2010, from 9 a.m. to 11:30 a.m. The session from 9 a.m.-10 a.m. will be open to the public; the session from 10 a.m.-11:30 a.m. will be closed to the public.

ADDRESSES: The meeting will be held in the Boardroom at CNA, 4825 Mark Center Drive, Alexandria, VA 22311-1846.

FOR FURTHER INFORMATION CONTACT: Commander Eric Taylor, CNO Executive Panel, 4825 Mark Center Drive, Alexandria, VA 22311-1846, 703-681-4909.

SUPPLEMENTARY INFORMATION: Pursuant to the provisions of the Federal Advisory Committee Act, as amended(5 U.S.C. App.), these matters constitute classified information that is specifically authorized by Executive Order to be kept secret in the interest of national defense and are, in fact, properly classified pursuant to such Executive Order. Accordingly, the Secretary of the Navy has determined in writing that the public interest requires that the portion of this meeting from10 a.m.-11:30 a.m. be closed to the public because they will be concerned with matters listed in section 552b(c)(1) of title 5, United States Code.

Individuals or interested groups may submit written statements for consideration by the CNO Executive Panel at any time or in response to the agenda of a scheduled meeting. All requests must be submitted to the Designated Federal Officer at the address detailed below.

If the written statement is in response to the agenda mentioned in this meeting notice then the statement, if it is to be considered by the Panel for this meeting, must be received at least five days prior to the meeting in question.

The Designated Federal Officer will review all timely submissions with the CNO Executive Panel Chairperson, and ensure they are provided to members of the CNO Executive Panel before the meeting that is the subject of this notice.

To contact the Designated Federal Officer, write to Executive Director, CNO Executive Panel (N00K), 4825 Mark Center Drive, 2nd Floor, Alexandria, VA 22311-1846.

Dated: October 28, 2010.
D.J. Werner,
Lieutenant Commander, Office of the Judge Advocate General, U.S. Navy, Federal Register Liaison Officer.

[FR Doc. 2010-27928 Filed 11-3-10; 8:45 am]

BILLING CODE 3810-FF-P